DEPARTMENT OF EDUCATION

34 CFR Chapter III

Proposed Priority—National Institute on Disability and Rehabilitation Research—Rehabilitation Research and Training Centers [CFDA Number: 84.133B-7]

AGENCY: Office of Special Education and Rehabilitative Services, Department of Education.

ACTION: Proposed priority.

SUMMARY: The Assistant Secretary for Special Education and Rehabilitative Services proposes a priority for the Rehabilitation Research and Training Center (RRTC) Program administered by the National Institute on Disability and Rehabilitation Research (NIDRR). Specifically, this notice proposes a priority for an RRTC on Disability Statistics and Demographics. The Assistant Secretary may use this priority for competitions in fiscal year (FY) 2013 and later years. We take this action to focus research attention on areas of national need. We intend the priority to contribute to improved outcomes in these areas for individuals with disabilities.

DATES: We must receive your comments on or before March 25, 2013.

ADDRESSES: Address all comments about this notice to Marlene Spencer, U.S. Department of Education, 400 Maryland Avenue SW., room 5133, Potomac Center Plaza (PCP), Washington, DC 20202-2700.

If you prefer to send your comments by email, use the following address: marlene.spencer@ed.gov. You must include the phrase “Proposed Priority for a RRTC on Disability Statistics and Demographics” in the subject line of your electronic message.

FOR FURTHER INFORMATION CONTACT: Marlene Spencer. Telephone: (202) 245-7532 or by email: marlene.spencer@ed.gov.

If you use a telecommunications device for the deaf (TDD) or a text telephone (TTY), call the Federal Relay Service (FRS), toll free, at 1-800-877-8339.

SUPPLEMENTARY INFORMATION:

This notice of proposed priority is in concert with NIDRR's currently approved Long-Range Plan (Plan). The Plan, which was published in the Federal Register on February 15, 2006 (71 FR 8165), can be accessed on the Internet at the following site: www.ed.gov/about/offices/list/osers/nidrr/policy.html.

Through the implementation of the Plan, NIDRR seeks to: (1) Improve the quality and utility of disability and rehabilitation research; (2) foster an exchange of expertise, information, and training methods to facilitate the advancement of knowledge and understanding of the unique needs of traditionally underserved populations; (3) determine best strategies and programs to improve rehabilitation outcomes for underserved populations; (4) identify research gaps; (5) identify mechanisms for integrating research and practice; and (6) disseminate findings.

This notice proposes one priority, that NIDRR intends to use for one or more competitions in FY 2013 and possibly later years. However, nothing precludes NIDRR from publishing additional priorities, if needed. Furthermore, NIDRR is under no obligation to make an award using this priority. The decision to make an award will be based on the quality of applications received and available funding.

Invitation to Comment: We invite you to submit comments regarding this notice. To ensure that your comments have maximum effect in developing the notice of final priority, we urge you to identify clearly the specific topic that each comment addresses.

We invite you to assist us in complying with the specific requirements of Executive Orders 12866 and 13563 and their overall requirement of reducing regulatory burden that might result from this proposed priority. Please let us know of any further ways we could reduce potential costs or increase potential benefits while preserving the effective and efficient administration of the program.

During and after the comment period, you may inspect all public comments about this proposed priority in room 5133, 550 12th Street SW., PCP, Washington, DC, between the hours of 8:30 a.m. and 4:00 p.m., Washington, DC time, Monday through Friday of each week except Federal holidays.

Assistance to Individuals with Disabilities in Reviewing the Rulemaking Record: On request we will provide an appropriate accommodation or auxiliary aid to an individual with a disability who needs assistance to review the comments or other documents in the public rulemaking record for this notice. If you want to schedule an appointment for this type of accommodation or auxiliary aid, please contact the person listed under FOR FURTHER INFORMATION CONTACT.

Purpose of Program: The purpose of the Disability and Rehabilitation Research Projects and Centers Program is to plan and conduct research, demonstration projects, training, and related activities, including international activities, to develop methods, procedures, and rehabilitation technology that maximize the full inclusion and integration into society, employment, independent living, family support, and economic and social self-sufficiency of individuals with disabilities, especially individuals with the most severe disabilities, and to improve the effectiveness of services authorized under the Rehabilitation Act of 1973, as amended (Rehabilitation Act).

Rehabilitation Research and Training Centers

The purpose of the RRTCs, which are funded through the Disability and Rehabilitation Research Projects and Centers Program, is to achieve the goals of, and improve the effectiveness of, services authorized under the Rehabilitation Act through advanced research, training, technical assistance, and dissemination activities in general problem areas, as specified by NIDRR. These activities are designed to benefit rehabilitation service providers, individuals with disabilities, and the family members or other authorized representatives of individuals with disabilities. Additional information on the RRTC program can be found at: www.ed.gov/rschstat/research/pubs/res-program.html#RRTC.

Program Authority: 29 U.S.C. 762(g) and 764(b)(2).

Applicable Program Regulations: 34 CFR part 350. Proposed Priority:

This notice contains one proposed priority, RRTC on Disability Statistics and Demographics.

Background:

For more than 25 years, NIDRR has supported research about disability statistics and demographics to assist government agencies, service providers, consumers, advocates, and others who need guidance or support in generating, analyzing, interpreting, or disseminating disability data. NIDRR seeks to fund an RRTC that will continue to serve as a national resource center for all stakeholders involved in the collection, analysis, dissemination, and use of national disability data.

Research, training, and technical assistance is needed so that national surveys are designed to help ensure that the experiences and outcomes of people with disabilities are fully and accurately captured in the data collections (Livermore et al, 2011). Improved questionnaire designs and innovative data collection strategies can facilitate the collection of valid and reliable disability data (National Research Council, 2009). Research on the benefits and drawbacks of various methodological approaches to the collection and analysis of disability data can improve the quality and consistency of that data and increase confidence in disability research findings (Burkhauser, Houtenville, and Tennant, 2012).

Over the course of the last five years, new sources of disability data have become available. While inconsistencies in the conceptualization and measurement of disability persist (National Research Council, 2009), Federal agencies are making progress in improving the scope and quality of the disability-related data that they are collecting (Livermore et al., 2011). For example, a standard six-question measure to identify the disability status of survey respondents is being used in a growing number of Federal surveys. The use of this measure in a variety of national data collection efforts has the potential to lead to new detailed data about the lives and experiences of individuals with disabilities—including data about employment status, housing, transportation, education, health status, and health care access. For example, this six-question measure was recently selected by the U.S. Department of Health and Human Services to meet the Affordable Care Act's requirement for collecting standard disability data in all national population health surveys (U.S. Department of Health and Human Services, Office of Minority Health, 2012).

Policymakers continue to cite the need for statistical information about the indirect and direct costs of disability, health disparities, individuals with disabilities living in institutional settings, and unmet needs for services or technologies to facilitate environmental access and to enhance community living (U.S. Department of Health and Human Services, Office of Disease Prevention and Health Promotion, 2012; National Council on Disability, 2008). Through analysis, compilation, and dissemination of disability data from national surveys and administrative sources, the RRTC will continue to inform the development of evidence-based disability policy and programs.

References:

Burkhauser, R., Houtenville, A., and Tennant, J. (2012). Capturing the elusive working-age population with disabilities: Reconciling conflicting social success estimates from the current population survey and the American community survey. Journal of Disability Policy Studies. Available From: http://dps.sagepub.com/content/early/2012/05/30/1044207312446226

Livermore, G., Whalen, D. Prenovitz, S., Aggarwal, R., and Bardos, M. Disability data in national surveys. Available from: http://aspe.hhs.gov/daltcp/reports/2011/DDNatlSur.shtml

National Council on Disability. (2008). Keeping track: National disability status and program performance indicators. Available from: www.ncd.gov/publications/2008/April212008

National Research Council. (2009). Improving the measurement of late-life disability in population surveys: Beyond ADLs and IADLs, summary of a workshop. Gooloo S., Wunderlich, Rapporteur. Committee on National Statistics and Committee on Population. Division of Behavioral and Social Sciences and Education. Washington, DC: The National Academies Press.

U.S. Department of Health and Human Services. Office of Minority Health (2012). Final Data Collection Standards for Race, Ethnicity, Primary Language, Sex, and Disability Status Required by Section 4302 of the Affordable Care Act. Available from: http://minorityhealth.hhs.gov/templates/browse.aspx?lvl=2&lvlid=208.

U.S. Department of Health and Human Services. Office of Disease Prevention and Health Promotion. (2012). Healthy people 2020: Disability and health. Washington, DC. Available from: http://healthypeople.gov/2020/topicsobjectives2020/overview.aspx?topicid=9

Proposed Priority:

The Assistant Secretary for Special Education and Rehabilitative Services establishes a priority for a Rehabilitation Research and Training Center (RRTC) on Disability Statistics and Demographics. This RRTC must conduct research, knowledge translation, training, dissemination, and technical assistance activities to advance the use and usefulness of disability statistics and demographic data to inform disability policy and the provision of services to individuals with disabilities. Under this priority, the RRTC must be designed to contribute to the following outcomes:

(a) National disability data and statistics that are of high quality and relevant to improving the lives of individuals with disabilities. The RRTC must contribute to this outcome by conducting analyses, providing recommendations, and optimizing methodologies for conducting surveys of individuals with disabilities, including sampling techniques, and methods for appropriately interviewing and collecting data from individuals with a wide range of disabilities.

(b) Timely analyses of high-quality, relevant disability and demographic statistics to inform the development of disability policies and programs. The RRTC must contribute to this outcome by:

(i) Producing secondary analyses of national, State, and administrative data that address critical program and service needs.

(ii) Evaluating progress with regard to national goals for individuals with disabilities and their families.

(iii) Providing statistical consultation, including specialized analyses, to facilitate the appropriate use of survey and administrative data by policymakers, advocates, individuals with disabilities, and other stakeholders.

(c) Improved access to disability statistics and demographic information. The RRTC must contribute to this outcome by:

(i) Serving as a resource on disability statistics and demographics for Federal and other government agencies, policymakers, consumers, advocates, researchers, and other interested parties.

(ii) Disseminating research findings in clear and useful formats to Federal and other government agencies, policymakers, consumers, advocates, researchers, and others to enhance planning, policymaking, program administration, and delivery of services to individuals with disabilities.

(iii) Developing and disseminating an annual report on disability in the United States that includes statistics on current status and trends related to the prevalence of disabilities, and employment, health, community living, and other outcomes of importance in monitoring the well-being of individuals with disabilities.

Types of Priorities:

When inviting applications for a competition using one or more priorities, we designate the type of each priority as absolute, competitive preference, or invitational through a notice in the Federal Register. The effect of each type of priority follows:

Absolute priority: Under an absolute priority, we consider only applications that meet the priority (34 CFR 75.105(c)(3)).

Competitive preference priority: Under a competitive preference priority, we give competitive preference to an application by (1) awarding additional points, depending on the extent to which the application meets the priority (34 CFR 75.105(c)(2)(i)); or (2) selecting an application that meets the priority over an application of comparable merit that does not meet the priority (34 CFR 75.105(c)(2)(ii)).

Invitational priority: Under an invitational priority, we are particularly interested in applications that meet the priority. However, we do not give an application that meets the priority a preference over other applications (34 CFR 75.105(c)(1)).

Final Priority:

We will announce the final priority in a notice in the Federal Register. We will determine the final priority after considering responses to this notice and other information available to the Department. This notice does not preclude us from proposing additional priorities, requirements, definitions, or selection criteria, subject to meeting applicable rulemaking requirements.

Note: This notice does not solicit applications. In any year in which we choose to use this priority, we invite applications through a notice in the Federal Register.

Executive Orders 12866 and 13563

Regulatory Impact Analysis

Under Executive Order 12866, the Secretary must determine whether this regulatory action is “significant” and, therefore, subject to the requirements of the Executive order and subject to review by the Office of Management and Budget (OMB). Section 3(f) of Executive Order 12866 defines a “significant regulatory action” as an action likely to result in a rule that may—

(1) Have an annual effect on the economy of $100 million or more, or adversely affect a sector of the economy, productivity, competition, jobs, the environment, public health or safety, or State, local, or tribal governments or communities in a material way (also referred to as an “economically significant” rule);

(2) Create serious inconsistency or otherwise interfere with an action taken or planned by another agency;

(3) Materially alter the budgetary impacts of entitlement grants, user fees, or loan programs or the rights and obligations of recipients thereof; or

(4) Raise novel legal or policy issues arising out of legal mandates, the President's priorities, or the principles stated in the Executive order.

This proposed regulatory action is not a significant regulatory action subject to review by OMB under section 3(f) of Executive Order 12866.

We have also reviewed this regulatory action under Executive Order 13563, which supplements and explicitly reaffirms the principles, structures, and definitions governing regulatory review established in Executive Order 12866. To the extent permitted by law, Executive Order 13563 requires that an agency—

(1) Propose or adopt regulations only upon a reasoned determination that their benefits justify their costs (recognizing that some benefits and costs are difficult to quantify);

(2) Tailor its regulations to impose the least burden on society, consistent with obtaining regulatory objectives and taking into account—among other things and to the extent practicable—the costs of cumulative regulations;

(3) In choosing among alternative regulatory approaches, select those approaches that maximize net benefits (including potential economic, environmental, public health and safety, and other advantages; distributive impacts; and equity);

(4) To the extent feasible, specify performance objectives, rather than the behavior or manner of compliance a regulated entity must adopt; and

(5) Identify and assess available alternatives to direct regulation, including economic incentives—such as user fees or marketable permits—to encourage the desired behavior, or provide information that enables the public to make choices.

Executive Order 13563 also requires an agency “to use the best available techniques to quantify anticipated present and future benefits and costs as accurately as possible.” The Office of Information and Regulatory Affairs of OMB has emphasized that these techniques may include “identifying changing future compliance costs that might result from technological innovation or anticipated behavioral changes.”

We are issuing this proposed priority only upon a reasoned determination that its benefits would justify its costs. In choosing among alternative regulatory approaches, we selected those approaches that would maximize net benefits. Based on the analysis that follows, the Department believes that these proposed priorities are consistent with the principles in Executive Order 13563.

We also have determined that this regulatory action would not unduly interfere with State, local, and tribal governments in the exercise of their governmental functions.

In accordance with both Executive orders, the Department has assessed the potential costs and benefits, both quantitative and qualitative, of this regulatory action. The potential costs are those resulting from statutory requirements and those we have determined as necessary for administering the Department's programs and activities.

The benefits of the Disability and Rehabilitation Research Projects and Centers Program have been well established over the years. Projects similar to the RRTCs have been completed successfully, and the proposed priorities will generate new knowledge through research. The new RRTCs will generate, disseminate, and promote the use of new information that would improve outcomes for individuals with disabilities in the areas of community living and participation, employment, and health and function.

Intergovernmental Review: This program is not subject to Executive Order 12372 and the regulations in 34 CFR part 79.

Accessible Format: Individuals with disabilities can obtain this document in an accessible format (e.g., braille, large print, audiotape, or compact disc) by contacting the Grants and Contracts Services Team, U.S. Department of Education, 400 Maryland Avenue SW., room 5075, PCP, Washington, DC 20202-2550. Telephone: (202) 245-7363. If you use a TDD or TTY, call the FRS, toll free, at 1-800-877-8339.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Dated: February 15, 2013.
Michael Yudin,
Acting Assistant Secretary for Special Education and Rehabilitative Services.

[FR Doc. 2013-03995 Filed 2-20-13; 8:45 am]

BILLING CODE 4000-01-P